NUCLEAR REGULATORY COMMISSION

[NRC-2009-0517; Docket Nos. 50-250 and 50-251; License Nos. DPR-31 and DPR-41]

Florida Power and Light Company; Receipt of Request for Action Under 10 CFR 2.206

Notice is hereby given that by petition dated January 11, 2009, Mr. Thomas Saporito (petitioner) has requested that the NRC take action with regard to Florida Power & Light Company's Turkey Point Nuclear Generating Units 3 and 4. The petitioner requests that the NRC take enforcement action against Florida Power & Light Company (FPL) by issuing a Notice of Violation and Imposition of Civil Penalty in the amount of $1,000,000 and further issue a Confirmatory Order modifying FPL's operating licenses DPR-31 and DPR-41 for the Turkey Point Nuclear Generating Units 3 and 4, Docket Nos. 50-250 and 50-251. The Order would include requiring an independent assessment of FPL's Employee Concerns Program and management implementation of the program in addition to providing training on the program and advertisement of the program to the employees.

As the basis for this request, the petitioner restates the concerns identified in FPL's self-assessment of their Employee Concerns Program (ECP):

Management attention to the ECP did not meet expectations and management's awareness of the ECP was superficial and program values had not been emphasized with employees.

The ECP facility was of low quality and did not give the impression of being important to management.

There is a perception problem with the ECP in the areas of confidentiality and potential retribution. The perception remains as evidenced by surveys, interviews and the high percentage of anonymous concerns. Previous surveys and assessments identified this perception, but little or no progress has been made in reversing this perception.

The ECP was most frequently thought to be a mechanism to use in addition to discussing concerns with the NRC and not as the first alternative to the Correction Action Program “CAP.”

While meeting most of the program requirements and having a technically qualified individual in the ECP coordinator position, the overall effectiveness of the program was marginal.

The ECP representative has very low visibility or recognition in the plant and has not been integrated into the management team or plant activities.

The large percentage of concerns submitted anonymously hampers feedback to concerned individuals. The written feedback process to non-anonymous individuals is impersonal and lacks feedback mechanisms for the ECP coordinator to judge the program's effectiveness.

The ECP process also does not provide assurance that conditions adverse to quality identified in the ECP review process would get entered into CAP, creating potential to miss correction and trending opportunities.

The request is being treated pursuant to Title 10 of the Code of Federal Regulations (10 CFR) Section 2.206 of the Commission's regulations. The request has been referred to the Director of the Office of Nuclear Reactor Regulation. As provided by Section 2.206, appropriate action will be taken on this petition within a reasonable time. The petitioner met with the Office of Nuclear Reactor Regulation petition review board on March 19 and May 7, 2009, to discuss the petition. The results of that discussion were considered in the board's determination regarding the schedule for the review of the petition. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or by e-mail to pdr.Resource@nrc.gov.

Dated at Rockville, Maryland, this 19th day of November 2009.
For the Nuclear Regulatory Commission.
Eric J. Leeds,
Director, Office of Nuclear Reactor Regulation.

[FR Doc. E9-28510 Filed 11-27-09; 8:45 am]

BILLING CODE 7590-01-P